ENVIRONMENTAL PROTECTION AGENCY

[FRL-9690-7]

Clean Air Act Operating Permit Program; Petition for Objection to State Operating Permit for CF&I Steel, L.P. dba EVRAZ Rocky Mountain Steel

AGENCY: Environmental Protection Agency (EPA).

ACTION: Notice of final action.

SUMMARY: This document announces that the EPA Administrator has responded to a citizen petition asking EPA to object to an operating permit issued by the Colorado Department of Public Health and Environment (CDPHE). Specifically, the Administrator has denied in part and granted in part the March 24, 2011, Petition (Petition), submitted under title V of the Clean Air Act (Act) by WildEarth Guardians (Petitioner), to object to CDPHE's December 28, 2010 Permit (Permit) issued to CF&I Steel, L.P. dba EVRAZ Rocky Mountain Steel (ERMS or EVRAZ).

Pursuant to sections 307(b) and 505(b)(2) of the Act, a petition for judicial review of those portions of the Order that deny issues in the Petition may be filed in the United States Court of Appeals for the appropriate circuit within 60 days from the date this notice appears in the Federal Register.

ADDRESSES: You may review copies of the final Order, the Petition, and other supporting information at the EPA Region 8 Office, 1595 Wynkoop Street, Denver, Colorado 80202-1129. EPA requests that if at all possible, you contact the individual listed in the FOR FURTHER INFORMATION CONTACT section to view the copies of the final Order, the Petition, and other supporting information. You may view the hard copies Monday through Friday, 8 a.m. to 4 p.m., excluding Federal holidays. If you wish to examine these documents, you should make an appointment at least 24 hours in advance. Additionally, the final Order for CF&I Steel, L.P. dba EVRAZ Rocky Mountain Steel is available electronically at: http://www.epa.gov/region07/air/title5/petitiondb/petitions/evraz_response2011.pdf.

FOR FURTHER INFORMATION CONTACT: Donald Law, Air Program (8P-AR), EPA Region 8, 1595 Wynkoop Street, Denver, Colorado 80202-1129. Phone: (303) 312-7015. Email: law.donald@epa.gov.

SUPPLEMENTARY INFORMATION: The Act affords EPA a 45-day period to review and object to, as appropriate, a title V operating permit proposed by State permitting authorities. Section 505(b)(2) of the Act authorizes any person to petition the EPA Administrator, within 60 days after the expiration of this review period, to object to a title V operating permit if EPA has not done so. Petitions must be based only on objections to the permit that were raised with reasonable specificity during the public comment period provided by the State, unless the petitioner demonstrates that it was impracticable to raise these issues during the comment period or the grounds for the issues arose after this period. EPA received a petition from WildEarth Guardians dated March 24, 2011, requesting that EPA object to the issuance of the Permit to EVRAZ for steelmaking operations located in Pueblo, Colorado. The Petition alleges that the Permit fails to ensure compliance with applicable requirements under the Act in that: (I) The Permit fails to assure compliance with the electric arc furnace regulations under 40 CFR 63.10680 et seq.; (II) the Permit fails to ensure that EVRAZ does not cause or contribute to a violation of the National Ambient Air Quality Standards (NAAQS); (III) the Permit fails to include stipulated penalties from an underlying Consent Decree; and (IV) the permitting authority failed to adequately address environmental justice impacts.

On May 31, 2012, the Administrator issued an Order granting in part and denying in part the Petition. The Order explains the reasons behind EPA's conclusions.

Dated: June 12, 2012.
Judith Wong,
Acting Regional Administrator, Region 8.

[FR Doc. 2012-15016 Filed 6-19-12; 8:45 am]

BILLING CODE 6560-50-P